DEPARTMENT OF COMMERCE

International Trade Administration

[C-475-819]

Certain Pasta From Italy: Rescission of 2017 Countervailing Duty Administrative Review

AGENCY: Enforcement and Compliance, International Trade Administration, Department of Commerce.

SUMMARY: The Department of Commerce (Commerce) is rescinding the administrative review of the countervailing duty (CVD) order on certain pasta from Italy for the period of review (POR) January 1, 2017, through December 31, 2017.

DATES: Applicable December 13, 2018.

FOR FURTHER INFORMATION CONTACT: Ethan Talbott or Mary Kolberg, AD/CVD Operations, Office I, Enforcement and Compliance, International Trade Administration, U.S. Department of Commerce, 1401 Constitution Avenue NW, Washington, DC 20230; telephone: (202) 482-1030, or (202) 482-1785, respectively.

Background

On July 3, 2018, Commerce published in the Federal Register a notice of opportunity to request an administrative review of the CVD order on certain past from Italy for the POR.¹ On July 30, 2018, Commerce received a timely request from Tesa SrL (Tesa), in accordance with section 751(a) of the Tariff Act of 1930, as amended (the Act) and 19 CFR 351.213(b), to conduct an administrative review of this CVD order.² On July 31, 2018, Commerce received timely requests from Industria Alimentare Colavita, S.p.A (Indalco) and GR.A.M.M. S.r.l., (GRAMM), in accordance with section 751(a) of the Act and 19 CFR 351.213(b), to conduct an administrative review of this CVD order.³

¹ See Antidumping or Countervailing Duty Order, Finding, or Suspended Investigation; Opportunity to Request Administrative Review, 83 FR 31121 (July 3, 2018).

² See Tesa's Letter, “Pasta from Italy; Request for Administrative Review,” dated July 30, 2018.

³ See Indalco's Letter, “Certain Pasta from Italy: Request for Administrative Review on Behalf of Industria Alimentare Colavita, S.p.A.,” dated July 31, 2018; see also GR.A.M.M.'s Letter, “Certain Dry Pasta from Italy, C-475-819; Request for Review,” dated July 31, 2018.

On September 10, 2018, Commerce published in the Federal Register a notice of initiation of the administrative review with respect to Tesa, Indalco, and GRAMM.⁴ On October 4, 2018, Tesa timely withdrew its request for an administrative review.⁵ On October 15, 2018, GRAMM timely withdrew its request for an administrative review.⁶ On November 19, 2018, Indalco timely withdrew its request for an administrative review.⁷

⁴ See Initiation of Antidumping and Countervailing Duty Administrative Reviews, 83 FR 45596 (September 10, 2018).

⁵ See Tesa's Letter, “Pasta from Italy; Withdrawal of Request for Administrative Review,” dated October 4, 2018.

⁶ See GRAMM's Letter, “Certain Dry Pasta from Italy, C-475-819; Withdrawal Request for Review,” dated October 15, 2018.

⁷ See Indalco's Letter, “Certain Pasta from Italy: Withdrawal of Request for CVD Administrative Review of Indalco S.p.A.,” dated November 19, 2018.

Rescission of Review

Pursuant to 19 CFR 351.213(d)(1), Commerce will rescind an administrative review, in whole or in part, if the party who requested the review withdraws its request within 90 days of the publication date of the notice of initiation of the requested review. As noted above, Tesa, Indalco, and GRAMM withdrew their requests for review by the 90-day deadline, and no other party requested an administrative review of this order. Therefore, we are rescinding, in its entirety, the administrative review of the CVD order on certain pasta from Italy covering the period January 1, 2017, through December 31, 2017, in accordance with 19 CFR 351.213(d)(1).

Assessment

Commerce will instruct U.S. Customs and Border Protection (CBP) to assess countervailing duties on all appropriate entries of certain pasta from Italy during January 1, 2017, through December 31, 2017. Countervailing duties shall be assessed at rates equal to the cash deposit rate for estimated countervailing duties required at the time of entry, or withdrawal from warehouse, for consumption, in accordance with 19 CFR 351.212(c)(1)(i). Commerce intends to issue appropriate assessment instructions to CBP 15 days after the date of publication of this notice in the Federal Register.

Notification Regarding Administrative Protective Orders

This notice serves as the only reminder to parties subject to administrative protective order (APO) of their responsibility concerning the return or destruction of proprietary information disclosed under APO in accordance with 19 CFR 351.305(a)(3). Timely written notification of the return or destruction of APO materials or conversion to judicial protective order is hereby requested. Failure to comply with the regulations and terms of an APO is a sanctionable violation.

This notice is issued and published in accordance with section 751(a)(1) and 777(i)(1) of the Act and 19 CFR 351.213(d)(4).

Dated: December 7, 2018.
James Maeder,
Associate Deputy Assistant Secretary for Antidumping and Countervailing Duty Operations performing the duties of Deputy Assistant Secretary for Antidumping and Countervailing Duty Operations.

[FR Doc. 2018-27001 Filed 12-12-18; 8:45 am]

BILLING CODE 3510-DS-P